DEPARTMENT OF ENERGY

Federal Energy Regulatory Commission

18 CFR Part 35

[Docket No. RM02-12-000]

Extension of Time and Further Procedures

November 12, 2002.

AGENCY: Federal Energy Regulatory Commission, DOE.

ACTION: Notice of proposed rulemaking; extension of comment period.

SUMMARY: The Federal Energy Regulatory Commission is extending the deadline for filing of comments on the Advance Notice of Proposed Rulemaking (ANOPR) and comments on the consensus documents that are currently due to be filed on November 12, 2002.

DATES: Comments are extended to and including December 9, 2002.

ADDRESSES: Federal Energy Regulatory Commission, 888 First Street, NE., Washington, DC 20426.

FOR FURTHER INFORMATION CONTACT: Magalie R. Salas, Secretary, 888 First Street, NE., Washington, DC 20426, (202) 508-8400.

SUPPLEMENTARY INFORMATION:

Standardization of Small Generator Interconnection Agreements and Procedures

On August 16, 2002, the Commission issued an Advance Notice of Proposed Rulemaking (ANOPR) in the above-docketed proceeding. On October 23, 2002, a Notice extending the period for filing of comments until November 26, 2002 was issued. Notice is given that the deadline for the filing of comments on the ANOPR and comments on the consensus documents (which are due to be filed November 12, 2002) is hereby extended to December 20, 2002. Furthermore, on or before December 9, 2002, the stakeholders who have participated in the development of the consensus documents will file statements explaining their various positions on the consensus documents. Upon receipt of these statements, Commission staff will prepare a summary table showing various issues and delineating the positions and explanations of the various parties and file the summary table in this proceeding.

Linwood A. Watson, Jr.,
Deputy Secretary.

[FR Doc. 02-29401 Filed 11-20-02; 8:45 am]

BILLING CODE 6717-01-P